DEPARTMENT OF HEALTH AND HUMAN SERVICES

Centers for Disease Control and Prevention

Disease, Disability, and Injury Prevention and Control Special Emphasis Panels (SEP): Avian Influenza Cooperative Research Centers—Studies at the Human-Animal Interface, Request for Applications (RFA) #CI06-009; and Non-Pharmaceutical Interventions for Pandemic Influenza, RFA #CI06-010

In accordance with section 10(a)(2) of the Federal Advisory Committee Act (Pub. L. 92-463), the Centers for Disease Control and Prevention (CDC) announces the following meeting:

Name: “Avian Influenza Cooperative Research Centers—Studies at the Human-Animal Interface,” Request for Applications (RFA) #CI06-009; and “Non-pharmaceutical Interventions for Pandemic Influenza,” RFA #CI06-010.

Times and Dates: 8 a.m.-8:30 a.m., August 17, 2006 (Open).

8:30 a.m.-4 p.m., August 17, 2006 (Closed).

8 a.m.-8:30 a.m., August 18, 2006 (Open).

8:30 a.m.-4 p.m., August 18, 2006 (Closed).

Place: Sheraton Gateway Atlanta Airport Hotel, 1900 Sullivan Road, Atlanta, GA 30337, Telephone Number 770.997.1100.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to RFA #CI06-009, “Avian Influenza Cooperative Research Centers—Studies at the Human-Animal Interface”; and RFA #CI06-010, “Non-pharmaceutical Interventions for Pandemic Influenza.”

For Further Information Contact: Felix Rogers, PhD, M.P.H., Scientific Review Administrator, National Immunization Program, CDC, 1600 Clifton Road, NE., Mailstop E-05, Atlanta, GA 30333, Telephone Number 404.639.6101.

The Director, Management Analysis and Services Office, has been delegated the authority to sign Federal Register notices pertaining to announcements of meetings and other committee management activities, for both CDC and the Agency for Toxic Substances and Disease Registry.

Dated: July 6, 2006.
Alvin Hall,
Director, Management Analysis and Services Office, Centers for Disease Control and Prevention.

[FR Doc. E6-11018 Filed 7-12-06; 8:45 am]

BILLING CODE 4163-18-P